DEPARTMENT OF THE INTERIOR

Fish and Wildlife Service

Final Comprehensive Conservation Plan and Environmental Impact Statement for the Driftless Area National Wildlife Refuge: Allamakee, Clayton, Clinton, Delaware, Dubuque, Fayette, Howard, Jackson, Jones and Winneshiek Counties, IA; Fillmore, Houston, Olmstead, Wabasha and Winona Counties, MN; Crawford, Grant, Monroe, Richland, Sauk and Vernon Counties, Wisconsin; and Jo Daviess County, IL

AGENCY: Fish and Wildlife Service, Interior.

ACTION: Notice of availability.

SUMMARY: The U.S. Fish and Wildlife Service announces that the Final Comprehensive Conservation Plan (CCP) and Environmental Impact Statement (EIS) for Driftless Area National Wildlife Refuge (NWR) in Illinois, Iowa, and Wisconsin is available.

The CCP was prepared pursuant to the National Wildlife Refuge System Administration Act of 1966, as amended by the National Wildlife Refuge System Improvement Act of 1997, and the National Environmental Policy Act of 1969. Goals and objectives in the CCP describe how the agency intends to manage the refuge over the next 15 years.

DATES: A Record of Decision may be signed no sooner than 30 days after publication of this notice (40 CFR 1506.10(b)(2)).

ADDRESSES: Copies of the Final CCP/EIS may be viewed at Driftless Area National Wildlife Refuge Headquarters and at the following libraries: Decorah Public Library, Decorah, Elkader Public Library, Elkader, Carnegie-Stout Public Library, Dubuque, and McGregor Public Library, McGregor in Iowa and McIntosh Memorial Library, Viroqua, Wisconsin. You may access and download a copy via the planning Web site (http://www.fws.gov/midwest/planning/DriftlessArea) or you may obtain a copy on compact disk by contacting: U.S. Fish and Wildlife Service, Division of Conservation Planning, Bishop Henry Whipple Federal Building, 1 Federal Drive, Fort Snelling, Minnesota 55111 (1-800-247-1247, extension 5429) or Driftless Area National Wildlife Refuge, P.O. Box 460, McGregor, Iowa 52157 (563-873-3423).

FOR FURTHER INFORMATION CONTACT: Cathy Henry at 563-873-3423.

SUPPLEMENTARY INFORMATION: The Driftless Area National Wildlife Refuge was established in 1989 to protect habitat for the threatened northern monkshood plant and endangered Iowa Pleistocene snail. The Refuge was authorized to acquire land in eight counties of northeast Iowa, northwest Illinois, and southwest Wisconsin. The Refuge is situated within the driftless geologic land form, an area never glaciated or missed by the most recent glacial advance.

Refuge land conservation focuses on conservation of algific (cold producing) talus slope systems, a landform/habitat feature unique to karst terrain that provides cold microclimate required by northern monkshood, Pleistocene snails, and other glacial relict species. Refuge land conservation consists of acquisition and management easements. Driftless Area NWR now consists of 781 acres within nine units in four northeastern Iowa counties. The Final CCP/EIS preferred alternative proposes conservation of additional lands (through fee title purchase from willing sellers, or other means, such as management easements) in the counties initially authorized, and proposes conservation of suitable habitat in five additional counties in Iowa, four additional counties in Wisconsin, and five counties in Minnesota. Additional information gained about the target species since listing, and the listing of Leedy's roseroot, which occupies similar habitat in southeast Minnesota, indicate the need to increase the geographic area of conservation.

The plan addresses four primary issues identified by the public and Refuge: (1) Habitat management; (2) visitor services; (3) refuge expansion; and (4) species assessments. The EIS evaluates three alternatives for future management of the Driftless Area NWR. The preferred alternative calls for ultimately acquiring 6,000 additional acres. Over the next 15 years we would permanently conserve approximately 2,275 of these acres within 22 counties in Iowa, Illinois, Minnesota, and Wisconsin. Under the preferred alternative we would achieve endangered species recovery and conservation of Service species of concern, multiple recovery goals for delisting of the Iowa Pleistocene snail through increased habitat management, and a carefully monitored increase in environmental education and wildlife observation programs.

Public comments were requested, considered, and incorporated throughout the planning process in numerous ways. Public outreach has included public meetings, meetings with stakeholders, planning update mailings, letters to adjoining landowners, and Federal Register notices. Three previous notices were published in the Federal Register concerning this CCP/EIS (67 FR 37852, May 30, 2002; 70 FR 28952, May 19, 2005; and 70 FR 32610, June 3, 2005). During the Draft CCP/EIS comment period that occurred from May 19 to July 22, 2005, the Service received 12 comment letters or e-mails in addition to comments made at four public meetings. All substantive issues raised in the comments have been addressed through revisions incorporated in the Final CCP/EIS text or in responses contained in Chapter 7 of the Final EIS/CCP.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: January 11, 2006.
Charles M. Wooley,
Acting Regional Director, U.S. Fish and Wildlife Service, Fort Snelling, Minnesota.

[FR Doc. E6-1474 Filed 2-2-06; 8:45 am]

BILLING CODE 4310-55-P